SMALL BUSINESS ADMINISTRATION

Administrator's Line of Succession Designation, No.1-A, Revision 38

This document replaces and supersedes “Line of Succession Designation No. 1-A, Revision 37”.

Line of Succession Designation No. 1-A, Revision 38

Effective immediately, the Administrator's Line of Succession Designation is as follows:

(a) In the event the Administrator determines she is unable to perform the functions and duties of her position or if she is medically incapacitated or have died or resigned, the Administrator designates the officials in listed order below, if they are eligible to act as Administrator under the provisions of the Federal Vacancies Reform Act of 1998 (5 U.S.C. 3345-3349d), to serve as Acting Administrator with full authority to perform all acts which the Administrator is authorized to perform:

(1) Deputy Administrator;

(2) Chief of Staff;

(3) General Counsel;

(4) Chief Operating Officer;

(5) Associate Administrator for Performance and Chief Financial Officer;

(6) Chief Human Capital Officer; and

(7) Deputy Associate Administrator, Office of Field Operations.

(b) An individual serving in an acting capacity in any of the positions listed in subparagraphs (a)(l) through (7), unless designated as such by the Administrator, is not also included in this Line of Succession. Instead, the next non-acting incumbent in the Line of Succession shall serve as Acting Administrator.

(c) This designation shall remain in full force and effect until revoked or superseded in writing by the Administrator.

(d) Serving as Acting Administrator has no effect on the officials listed in subparagraphs (a)(l) through (7), above, with respect to the authorities, duties, and responsibilities of their full-time positions (except that such official cannot both recommend and approve an action).

(e) Once the Administrator anticipates and/or determines she will not be able to perform the functions of the position, the Administrator will immediately notify the Office of Cabinet Affairs and White House Chief of Staff. In the event the Administrator is medically incapacitated and unable to notify those offices, the Deputy Administrator and/or Chief of Staff shall notify the Office of Cabinet Affairs, White House Chief of Staff, and Principal Policy Counterpart. Further, intra-agency stakeholders and other federal agency counterparts will be notified as necessary.

(f) The Administrator will notify the Office of Cabinet Affairs and White House Chief of Staff, once she resumes performing the function and duties as Administrator.

Isabella Casillas Guzman,
Administrator.

[FR Doc. 2024-04829 Filed 3-6-24; 8:45 am]

BILLING CODE 8026-09-P